DEPARTMENT OF EDUCATION

[CFDA No. 84.295A]

Office of Educational Research and Improvement; Ready-To-Learn (RTL) Television Program; Notice Inviting Applications for New Awards for Fiscal Year (FY) 2000

Purpose of Program: The Ready-To-Learn Television program supports the development of: (1) Educational programming for preschool and early elementary school children and their families; (2) educational television programming and ancillary materials to increase school readiness for young children in limited-English proficient households and to increase family literacy; and (3) accompanying support materials and services that promote the effective use of educational programming.

For FY 2000 the competition for new awards focuses on projects designed to meet the priority we describe in the PRIORITY section of this application notice.

Eligible Applicants: Non-profit organizations, including public telecommunication entities, able to demonstrate a capacity (1) To develop and distribute educational and instructional television programming of high quality for preschool and elementary school children; and (2) to contract with the producers of children's television programming for the purpose of developing educational television programming of high quality for preschool and elementary school children.

Deadline for the Transmittal of Applications: June 5, 2000.

Estimated Available Funds: $16 Million.

Estimated Range of Awards: Up to $16 Million.

Estimated Average Size of Awards: Up to $16 Million.

Estimated Number of Awards: One.

Note: The Department is not bound by any estimates in this notice.

Project Period: Up to 60 months.

Page Limit: The application narrative (Part III of the application) is where you, the applicant, address the selection criteria reviewers use to evaluate your application. You must limit Part III to the equivalent of no more than 60 pages, using the following standards:

• A page is 8.5″ × 11″, on one side only, with 1” margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

If, to meet the page limit, you use more than one side of the page, you use a larger page, or you use a print size, spacing, or margins smaller than the standards in this notice, we will reject your application.

Applicable Regulations: The Education Department General Administrative Regulations (EDGAR) in 34 CFR parts 74, 75, 77, 80, 81, 82, 85, 86, 97, 98, and 99.

Priority

Absolute Priority

The Secretary gives an absolute preference to applications that meet the criteria in the next paragraph. The Secretary funds under this competition only an application that meets this absolute priority (34 CFR 75.105(c)(3)).

The Secretary will only fund an application that documents how the proposed project will—

(1) Collaborate with Head Start Centers and family based child care organizations, public school pre-kindergarten programs, and Even Start Family Literacy Programs;

(2) Work with after-school programs funded under the 21st Century Community Learning Centers; and

(3) Work with early childhood literacy, language, and reading organizations.

An application for funding under this program also must propose to:

(1) Develop a minimum of two new children's television shows during the 5 year project, of which at least one will be designed to expand the language, literacy, and reading competencies of young children who do not use English as their primary language.

(2) Use state-of-the-art technology to create new programming and materials especially targeted to families who: (a) Have limited literacy; (b) do not use English as their primary language; (c) have young children with disabilities; and (d) live in rural areas.

(3) Establish a technical assistance center for the Ready-To-Learn coordinators and station representatives in order to provide on-going training, using state-of-the-art methods, including: on-line training, distance learning, and face-to-face education and professional development, with an emphasis on developing strategies and materials for reaching diverse populations of children and families.

(4) Establish performance indicators to determine Ready-To-Learn's impact on children and families.

(5) Establish performance indicators to measure the impact of training and education on Ready-To-Learn coordinators and station representatives, including improving their knowledge, skills, and competencies related to early childhood development and learning and parenting education.

(6) Develop a management information system for collecting data from all participating Ready-to-Learn Television stations and establish criteria for measuring the effectiveness of local workshops.

(7) Convene an annual conference for the Ready-to-Learn Television coordinators and station representatives, including community partners.

(8) Establish a National Advisory Board for Ready-To-Learn Television.

Waiver of Proposed Rulemaking

In accordance with the Administrative Procedure Act, (5 U.S.C. 553), it is the practice of the Department to offer interested parties the opportunity to comment on proposed priorities that are not taken directly from the statute. Ordinarily, this practice would have applied to the priority in this notice. Section 437(d)(1) of the General Education Provisions Act (GEPA), however, exempts rules that apply to the first competition under a new program from this requirement. The Ready-to-Learn Television program was first authorized by Congress as part of the Improving America's Schools Act of 1994, Pub L. 103-382. This is the first competition to award a grant under this program. Consequently, the Secretary, in accordance with section 437(d)(1) of GEPA and to ensure a timely grant award, has decided to forego public comment with respect to the absolute priority. This priority will apply to the FY 2000 grant competition only.

For Applications and Further Information Contact: Joe Caliguro, U.S. Department of Education, 555 New Jersey Avenue, NW., room 604-I, Washington, DC 20202-5520. Telephone: (202) 219-1596. If you use a telecommunications device for the deaf (TDD), you may call the Federal Information Relay Service (FIRS) at 1-800-877-8339.

Individuals with disabilities may obtain this document in an alternative format (e.g., Braille, large print, audiotape, or computer diskette) on request to the program contact person listed in the previous paragraph.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 6921-6928.

Dated: April 28, 2000.
C. Kent McGuire,
Assistant Secretary for Educational Research and Improvement.

[FR Doc. 00-11014 Filed 5-2-00; 8:45 am]

BILLING CODE 4000-01-U